DEPARTMENT OF EDUCATION

34 CFR Chapter III

[ED-2014-OSERS-0012]

Final Priorities; National Institute on Disability and Rehabilitation Research—Rehabilitation Research and Training Centers

AGENCY: Office of Special Education and Rehabilitative Services, Department of Education.

ACTION: Final priority.

[CFDA Numbers: 84.133B-6 and 84.133B-7.]

SUMMARY: The Assistant Secretary for Special Education and Rehabilitative Services announces two priorities for the Rehabilitation Research and Training Centers (RRTC) Program administered by the National Institute on Disability and Rehabilitation Research (NIDRR). Specifically, this notice announces two priorities for two RRTCs on Transition to Employment for Youth and Young Adults with Serious Mental Health Conditions and Community Living and Participation for Youth and Young Adults with Serious Mental Health Conditions. The Assistant Secretary may use these priorities for competitions in fiscal year (FY) 2014 and later years. This RRTC will be jointly funded by NIDRR and the Substance Abuse and Mental Health Services Administration (SAMHSA). We take this action to focus research attention on an area of national need. We intend these priorities to contribute to improved outcomes in the transition to employment and community living and participation for youth and young adults with serious mental health conditions (SMHC) resulting in psychiatric disability.

DATES: These priorities are effective August 18, 2014.

FOR FURTHER INFORMATION CONTACT: Patricia Barrett, U.S. Department of Education, 400 Maryland Avenue SW., Room 5142, Potomac Center Plaza (PCP), Washington, DC 20202-2700. Telephone: (202) 245-6211 or by email: patricia.barrett@ed.gov.

If you use a telecommunications device for the deaf (TDD) or a text telephone (TTY), call the Federal Relay Service (FRS), toll free, at 1-800-877-8339.

SUPPLEMENTARY INFORMATION: Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas, as specified by NIDRR. These activities are designed to benefit rehabilitation service providers, individuals with disabilities, family members, policymakers and other research stakeholders. Additional information on the RRTC program can be found at: http://www2.ed.gov/programs/rrtc/index.html.

Program Authority: 29 U.S.C. 762(g) and 764(b)(2).

Applicable Program Regulations: 34 CFR part 350.

We published a notice of proposed priorities (NPP) in the Federal Register on April 15, 2014 (79 FR 21168). That notice contained background information and our reasons for proposing the particular priorities.

There are differences between the proposed priorities and these final priorities as discussed in the Analysis of Comments and Changes section elsewhere in this notice.

Public Comment: In response to our invitation in the notice of proposed priorities, five parties submitted comments on the proposed priorities.

Generally, we do not address technical and other minor changes.

Analysis of Comments and Changes: An analysis of the comments and of any changes in the priorities since publication of the NPP follows.

Comment: One commenter recommended that NIDRR not publish a final priority on Transition to Employment for Youth and Young Adults with Serious Mental Health Conditions. To achieve both employment and community living and participation outcomes for this population, the commenter recommended that NIDRR require the RRTC on Community Living and Participation for Youth and Young Adults with Serious Mental Health Conditions to conduct research on “mindfulness” interventions for this population.

Discussion: We agree with the commenter that employment outcomes and community living and participation outcomes may be related for this population and that some interventions could have a positive influence on both of these broad outcome areas. However, NIDRR believes that the two outcome domains are distinct in the lives of individuals with disabilities. In addition, the social policies and service delivery systems that promote successful employment outcomes among individuals with disabilities are different from those that promote community living and participation. Thus, NIDRR and SAMHSA developed and intend to jointly fund two separate RRTCs on these outcome domains for youth and young adults with SMHC.

Nothing in either priority precludes applicants from proposing and justifying research on mindfulness interventions for youth and young adults with SMHC. However, we do not believe it is necessary to further specify the research requirements in the way suggested by the commenter and thereby limit the number and breadth of applications submitted under these priorities. The peer review process will determine the merits of each proposal.

Changes: None.

Comment: Several commenters requested that NIDRR clarify that it is important that youth and young adults with SMHC play active roles in the activities of both priorities. Two commenters requested that NIDRR modify the two RRTC priorities to require the active involvement of youth and young adults with SMHC in the research and evaluation activities of the RRTCs in a manner that allows them to describe their experiences and perspectives. One of these commenters suggested that this engagement be as independent as possible, paralleling the youth and young adults' self-determination and their growing independence from their families. The other of these commenters suggested that NIDRR require the development of guidelines to ensure that organizations are effective in integrating youth and young adults in the research and evaluation activities of the RRTCs. Another commenter requested that NIDRR modify the priorities in this notice to require specifically the active involvement of youth and young adults with SMHC in outreach and information dissemination to their peers.

Discussion: We agree that youth and young adults with SMHC should be involved in the RRTC's development and evaluation of interventions, as well as in its dissemination activities. We don't however believe that it is necessary to require that guidelines be developed to govern this process. Paragraph (a)(ii) of both priorities requires applicants to involve youth and young adults with SMHC in identifying, developing, and evaluating interventions, and we have revised both priorities to require applicants to involve youth and young adults with SMHC in the RRTC's dissemination activities. For all of these activities, we agree that it is critical that youth and young adults participate as independently as possible.

Changes: To promote more independent involvement of youth and young adults with SMHC in identifying, developing, and evaluating interventions, we have modified paragraph (a)(ii) of each priority to state that applicants must involve youth and young adults with SMHC and may involve families or family surrogates, as appropriate. We also have modified paragraph (e)(iii) of priority 1 and paragraph (d)(iii) of priority 2 to require applicants to involve youth and young adults with SMHC in the RRTC's dissemination and outreach efforts.

Comment: One commenter noted that there are multiple variables that affect employment outcomes among youth and young adults with SMHC, including workplace environment variables and individual-level variables related to skills, goals, and interests. The commenter suggested that NIDRR modify the Transition to Employment for Youth and Young Adults with Serious Mental Health Conditions priority to require research to develop interventions that promote employment for this population by targeting individual skills, goals, and interests, as well as the workplace environments in which the youth are seeking work.

Discussion: NIDRR agrees that there are multiple variables that impact employment outcomes for youth and young adults with SMHC. We have purposely stated the requirements in paragraph (a) broadly, so that applicants can approach the task of identifying, developing, and evaluating interventions by focusing on the variables that they think are important, including the variables described by the commenter. We do not believe it is necessary to further specify the research requirements in the way suggested by the commenter and thereby limit the number and breadth of applications submitted under this priority. The peer review process will determine the merits of each proposal.

Changes: None.

Comment: One commenter requested that NIDRR modify the Transition to Employment for Youth and Young Adults with Serious Mental Health Conditions priority by providing a definition of “successful employment outcomes for youth and young adults with SMHC” that would include self-employment and internship experiences.

Discussion: In this priority, NIDRR's focus is on employment. Self-employment is a recognized employment outcome (see 34 CFR 361.5(b)(16)). An internship experience, in contrast, is typically defined as a method of on-the-job practical training for a fixed or limited period of time. While we do not view training experiences, such as an internship, as an employment outcome, an applicant could propose to conduct research evaluating the effectiveness of internships as an intervention in improving employment outcomes for youth and young adults with SMHC. We expect applicants to identify the criteria they will use in determining whether participants have obtained an “employment outcome” and peer reviewers will assess an applicant's criteria as part of the review process. We do not want to limit the breadth of applications that can be submitted by imposing a definition of “successful employment.”

Changes: None.

Comment: One commenter recommended that NIDRR modify the Transition to Employment for Youth and Young Adults with Serious Mental Health Conditions priority to distinguish between short-term employment goals, such as meeting immediate financial needs, and long-term employment goals, such as advancing along a self-determined career path and experiencing a satisfying and fulfilling career.

Discussion: The focus of the priority is on improving employment outcomes, not on an individual's employment goals. However, nothing in the priority precludes applicants from proposing research that examines short-term or long-term employment goals as a variable that may affect employment outcomes for individuals with SMHC. The peer review process will determine the merits of each proposal.

Changes: None.

Comment: One commenter suggested that the RRTC's research focus on long-term, rather than short-term, employment outcomes.

Discussion: Nothing in the priority precludes applicants from proposing research focused on short-term or long-term employment outcomes. However, we do not believe it is necessary to modify the priority to limit the scope of potential research that can be proposed by requiring research on what the commenter has called “long-term employment outcomes.” The peer review process will determine the merits of each proposal.

Changes: None.

Comment: None.

Discussion: After further review, we believe that employers should be added to the list of organizations to which the RRTC on Transition to Employment for Youth and Young Adults with Serious Mental Illness must provide technical assistance. Employers play a key role in helping these individuals achieve favorable employment outcomes, and we expect that the RRTC's research may help employers understand what accommodations may be necessary to support successful employment outcomes for these employees.

Changes: In paragraph (c) of the priority on Transition to Employment for Youth and Young Adults with Serious Mental Health Conditions, NIDRR is adding “employers” to the list of organizations for which capacity must be built to improve the employment and employment-related outcomes of youth and young adults with SMHC.

Comment: One commenter requested that NIDRR modify the Community Living and Participation for Youth and Young Adults with Serious Mental Health Conditions priority to require research on interventions that give youth with SMHC opportunities to participate in community settings outside of the mental health service system and to engage with peers who are not in the mental health service system.

Discussion: Nothing in the priority precludes applicants from identifying, developing, and evaluating interventions that provide the kinds of opportunities described by the commenter. However, we do not believe it is necessary to limit the number and breadth of applications that can be submitted under this priority, by requiring applicants to focus on the types of interventions that are described by the commenter. The peer review process will determine the merits of each proposal.

Changes: None.

Final Priorities

Priority 1—Transition to Employment for Youth and Young Adults With Serious Mental Health Conditions

The Assistant Secretary for Special Education and Rehabilitative Services establishes a priority for an RRTC on Transition to Employment for Youth and Young Adults with Serious Mental Health Conditions. This RRTC must conduct research that contributes to improved employment outcomes (e.g., obtaining employment, retention, and earnings) and employment-related outcomes (e.g., postsecondary education, training and career development activities) for youth and young adults with SMHC. Applicants must specify how they will measure employment and employment-related outcomes in their applications.

For purposes of this priority, the term “youth and young adults with SMHC” refers to individuals between the ages of 14 and 30, inclusive, who have been diagnosed either with a serious emotional disturbance (for individuals under the age of 18 years) or a serious mental illness (for those 18 years of age or older). Under this priority, the RRTC must contribute to the following outcomes:

(a) More effective and developmentally appropriate interventions that improve employment outcomes and increase capacity to use self-determination skills and strategies for youth and young adults with SMHC. The RRTC must contribute to this outcome by:

(i) Identifying or developing, and then evaluating, innovative interventions that meet the needs of youth and young adults with SMHC;

(ii) Involving youth and young adults with SMHC in the processes of identifying or developing, and then evaluating, interventions. Applicants may also involve family or family surrogates of youth and young adults with SMHC, as appropriate; and

(iii) Including youth and young adults with SMHC who are at particular risk for less favorable employment outcomes (e.g., unemployment and difficulty maintaining employment). Applicants must identify the specific at-risk group or groups of youth and young adults with SMHC they propose to study, provide evidence that the selected population or populations are at risk for poor employment outcomes, and explain how the proposed practices are expected to address the needs of the identified population.

(b) Increased knowledge about workforce participation of youth and young adults with SMHC, as well as the service systems and evidence-based supported practices that enhance positive educational and vocational development. In generating this new knowledge, applicants should identify one or more specific stages of research. If the RRTC is to conduct research that can be categorized under more than one of the research stages, or research that progresses from one stage to another, those stages should be clearly specified. These research stages and their definitions are in the notice of final priorities and definitions published in the Federal Register on May 7, 2013 (78 FR 26513).

(c) Increased capacity of employers, organizations, State agencies, and other service providers for youth and young adults with SMHC to improve the educational and employment outcomes for youth and young adults with SMHC. The RRTC will provide training and technical assistance to service providers who work with youth and young adults with SMHC.

(d) New knowledge regarding changes in systems and policies that could improve education, career development, and employment for youth and young adults with SMHC.

(e) Serving as a national resource center to:

(i) Provide information and technical assistance to youth and young adults with SMHC, their representatives, and other key stakeholders;

(ii) Provide training (including graduate, pre-service, and in-service training) and technical assistance to vocational rehabilitation providers and other disability service providers to facilitate more effective delivery of services to youth and young adults with SMHC. This training may be provided through conferences, workshops, public education programs, in-service training programs, and similar activities;

(iii) Disseminate research-based information and materials related to employment of youth and young adults with SMHC. The applicant must describe how it will involve youth and young adults with SMHC in its dissemination and outreach activities; and

(iv) Involve key stakeholder groups in the activities conducted under paragraph (a) in order to maximize the relevance and usability of the new knowledge generated by the RRTC.

Priority 2—Community Living and Participation for Youth and Young Adults With Serious Mental Health Conditions

The Assistant Secretary for Special Education and Rehabilitative Services establishes a priority for an RRTC on Community Living and Participation for Youth and Young Adults with Serious Mental Health Conditions. This RRTC must conduct research that contributes to improved community participation for youth and young adults with SMHC.

For purposes of this priority, the term “youth and young adults with SMHC” refers to individuals between the ages of 14 and 30, inclusive, who have been diagnosed either with serious emotional disturbance (for individuals under the age of 18 years) or a serious mental illness (for those 18 years of age or older). Under this priority, the RRTC must contribute to the following outcomes:

(a) More effective and developmentally appropriate interventions that improve community living and participation outcomes and increase capacity to use self-determinations skills and strategies for youth and young adults with SMHC. The RRTC must contribute to this outcome by:

(i) Identifying or developing, and then evaluating, innovative interventions that meet the needs of youth and young adults with SMHC;

(ii) Involving youth and young adults with SMHC in the processes of identifying or developing, and then evaluating, interventions. Applicants may also involve family or family surrogates of youth and young adults with SMHC, as appropriate; and

(iii) Including youth and young adults with SMHC who are at particular risk for less favorable community living and participation outcomes (e.g., those with justice system involvement, those in foster care, and those with multiple diagnoses). Applicants must identify the specific at-risk group or groups of youth and young adults with SMHC they propose to study, provide evidence that the selected population or populations are at risk for less favorable community living and participation outcomes, and explain how the proposed practices are expected to address the needs of the identified population.

(b) Increased capacity of organizations and service providers for youth and young adults with SMHC to promote the social and self-determination skills of youth and young adults with SMHC and help them build connections with positive individuals and organizations in their communities. The RRTC will provide training and technical assistance to service providers who work with youth and young adults with SMHC.

(c) New knowledge about key systems and policy issues that influence decisions about eligibility, effectiveness, structure, implementation, and funding for programs and initiatives that support community living and participation and self-determination in youth and young adults with SMHC. In generating this new knowledge, applicants should identify one or more specific stages of research. If the RRTC is to conduct research that can be categorized under more than one of the research stages, or research that progresses from one stage to another, those stages should be clearly specified. These research stages and their definitions are in the notice of final priorities and definitions published in the Federal Register on May 7, 2013 (78 FR 26513).

(d) Serving as a national resource center related to community living and participation and self-determination of youth and young adults with SMHC by:

(i) Providing information and technical assistance to youth and young adults with SMHC, their representatives, and other key stakeholders;

(ii) Providing training (including graduate, pre-service, and in-service training) and technical assistance to service providers to facilitate more effective delivery of services to youth and young adults with SMHC. This training may be provided through conferences, workshops, public education programs, in-service training programs, and similar activities;

(iii) Disseminating research-based information and materials related to community living and participation and self-determination of youth and young adults with SMHC. The applicant must describe how it will involve youth and young adults with SMHC in its dissemination and outreach activities; and

(iv) Involving key stakeholder groups in the activities conducted under paragraph (a) in order to maximize the relevance and usability of the new knowledge generated by the RRTC.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the ones envisioned by the final priorities have been completed successfully. The new RRTCs will generate and promote the use of new knowledge that will improve the outcomes for employment and community living and participation for youth and young adults with serious mental health conditions.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 15, 2014.
Michael K. Yudin,
Acting Assistant Secretary for Special Education and Rehabilitative Services.

[FR Doc. 2014-16995 Filed 7-17-14; 8:45 am]

BILLING CODE 4000-01-P